FEDERAL COMMUNICATIONS COMMISSION

47 CFR Parts 1, 2, and 25

[IB Docket No. 99-67; FCC 03-283]

Implement the Global Mobile Personal Communications by Satellite (GMPCS) Memorandum of Understanding and Arrangements

AGENCY: Federal Communications Commission.

ACTION: Final rule; announcement of effective date.

SUMMARY: The Commission adopted new rules and policies pertaining to portable Global Mobile Personal Communications by Satellite (GMPCS) transceivers, i.e., satellite telephones and other portable transceivers operated by end users for communication via direct radio links with satellites. These devices are used for both voice and data communication and may be used for internet access or other modes of broadband communication. Certain rules contained new information collection requirements and were published in the Federal Register on February 6, 2004. This document announces the effective date of these published rules.

DATES: The amendments to 47 CFR 1.1307, 2.1033, 2.1204, 25.129 and 25.132 published at 69 FR 5707, February 6, 2004, became effective on March 8, 2004.

FOR FURTHER INFORMATION CONTACT: William Bell, Federal Communications Commission, 445 12th Street, SW., Washington, DC 20554, (202) 418-0741 or via the Internet at William.Bell@fcc.gov.

SUPPLEMENTARY INFORMATION: On July 22, 2004, the Office of Management and Budget (OMB) approved the information collection requirements contained in 47 CFR 1.1307, 2.1033, 2.1204, 25.129 and 25.132 pursuant to OMB Control No. 3060-1063. Accordingly, the information collection requirements contained in these rules became effective on March 8, 2004.

Federal Communications Commission.
Marlene H. Dortch,
Secretary.

[FR Doc. 05-2503 Filed 2-8-05; 8:45 am]

BILLING CODE 6712-01-P